DEPARTMENT OF ENERGY

Federal Energy Regulatory Commission

[Docket No. EL08-49-000]

BJ Energy LLC, Franklin Power LLC, GLE Trading LLC, Ocean Power LLC, Pillar Fund LLC v. PJM Interconnection, LLC; Notice Shortening Answer Period

April 20, 2009.

On April 15, 2009, PJM Interconnection, LLC filed a Request for Public Release of Information and Request for Expedited Action in the above-referenced proceeding (April 15 Motion). Included in the filing was a request to shorten the dates for filing answers to the April 15 Motion. By this notice, the date for filing answers to PJM's April 15 Motion is shortened to and including April 23, 2009.

Kimberly D. Bose,
Secretary.

[FR Doc. E9-9485 Filed 4-24-09; 8:45 am]

BILLING CODE 6717-01-P